DEPARTMENT OF COMMERCE

National Oceanic and Atmospheric Administration

RIN 0648-XF191

Pacific Fishery Management Council; Public Meeting

AGENCY: National Marine Fisheries Service (NMFS), National Oceanic and Atmospheric Administration (NOAA), Commerce.

ACTION: Notice of public meeting.

SUMMARY: The Pacific Fishery Management Council's (Pacific Council) Ad Hoc Groundfish Electronic Monitoring Technical Advisory Committee and Groundfish Electronic Monitoring Policy Advisory Committee (GEM Committees) will hold a joint work session, which is open to the public.

DATES: The meeting will be held Wednesday, February 22, 2017, from 9 a.m. until 5 p.m. (Pacific Standard Time) or when business for the day has been completed.

ADDRESSES: The work session will be held at the Radisson Hotel Portland Airport; Concourse Meeting Room, 6233 NE 78th Court, Portland, OR 97218; telephone: (503) 251-2000.

Council address: Pacific Fishery Management Council, 7700 NE Ambassador Place, Suite 101, Portland, OR 97220.

FOR FURTHER INFORMATION CONTACT: Mr. Brett Wiedoff, Staff Officer, Pacific Council; telephone: (503) 820-2280.

SUPPLEMENTARY INFORMATION: The primary purpose of the work session is to discuss development of an impact analysis for the Pacific Council's adopted alternatives for an electronic monitoring program for bottom trawl and midwater trawl vessels that target groundfish other than whiting in the Pacific Coast Groundfish Limited Entry Trawl Fishery. No management actions will be decided at this work session. The work session will include review and discussion of the Council's adopted alternatives and other reports.

Although nonemergency issues not contained in the meeting agenda may come before the GEM Committees for discussion, those issues may not be the subject of formal action during this meeting. The work session will be restricted to those issues specifically listed in this notice and any issues arising after publication of this notice that require emergency action under section 305(c) of the Magnuson-Stevens Fishery Conservation and Management Act, provided the public has been notified of the GEM committees' intent to take final action to address the emergency.

Special Accommodations

This meeting is physically accessible to people with disabilities. Requests for sign language interpretation or other auxiliary aids should be directed to Mr. Kris Kleinschmidt at (503) 820-2280 at least 10 days prior to the meeting date.

Dated: January 27, 2017.
Tracey L. Thompson,
Acting Deputy Director, Office of Sustainable Fisheries, National Marine Fisheries Service.

[FR Doc. 2017-02105 Filed 1-31-17; 8:45 am]

BILLING CODE 3510-22-P